FEDERAL TRADE COMMISSION

Revised Jurisdictional Thresholds for Section 8 of the Clayton Act

AGENCY: Federal Trade Commission.

ACTION: Notice.

SUMMARY: The Federal Trade Commission announces the revised thresholds for interlocking directorates required by the 1990 amendment of Section 8 of the Clayton Act.

DATES: Effective Date: January 27, 2012.

FOR FURTHER INFORMATION CONTACT: James F. Mongoven, Federal Trade Commission, Bureau of Competition, Office of Policy and Coordination, (202) 326-2879, Room NJ 7115, 600 Pennsylvania Avenue NW, Washington, DC 20580.

SUPPLEMENTARY INFORMATION: Section 8 of the Clayton Act, as amended in 1990, prohibits, with certain exceptions, one person from serving as a director or officer of two competing corporations if two thresholds are met. Competitor corporations are covered by Section 8 if each one has capital, surplus, and undivided profits aggregating more than $10,000,000, with the exception that no corporation is covered if the competitive sales of either corporation are less than $1,000,000. Section 8(a)(5) requires the Federal Trade Commission to revise those thresholds annually, based on the change in gross national product. The new thresholds, which take effect immediately, are $27,784,000 for Section 8(a)(1), and $2,778,400 for Section 8(a)(2)(A).

Authority: 15 U.S.C. 19(a)(5).

By direction of the Commission.
Donald S. Clark,
Secretary.

[FR Doc. 2012-1866 Filed 1-26-12; 8:45 a.m.]

BILLING CODE 6750-01-P